DEPARTMENT OF ENERGY

Federal Energy Regulatory Commission

[Docket Nos. CP02-130-000, CP02-131-000 and CP02-132-000]

Transcontinental Gas Pipe Line Corporation; Notice of Applications

Issued April 16, 2002.

Take notice that on March 29, 2002, Transcontinental Gas Pipe Line Corporation (Applicant), One Williams Center, Suite 4100, Tulsa, Oklahoma, 74172, through its agent, Williams Energy Marketing & Trading Company ¹ (Williams), tendered for filing applications for certificates of public convenience and necessity pursuant to Section 7(b) of the Natural Gas Act (NGA) to abandon certain firm sales agreements under Applicant's Rate Schedule FS between Applicant and various customers pursuant to a Settlement Agreement approved by the Commission in Docket No. CP88-391, et al. on June 19, 1991, as amended by order issued December 17, 1991 ², all as more fully set forth in the applications, which are on file and open to public inspection. The applications may be viewed on the web at www.ferc.fed.us/online/rims.htm (call (202) 208-2222 for assistance).

¹ Formerly Williams Energy Services Company

² See orders at 55 FERC ¶ 61,466 (1991) and 57 FERC ¶ 61,345 (1991).

Applicant asserts that no abandonment of any facility is proposed. Applicant proposes to abandon three service agreements under its Rate Schedule FS. The information in the table below summarizes each individual abandonment application:

Docket No. | Customer name | Date of agreement to proposed abandonment of current service | Proposed effective date of abandonment
CP00-130-000 | City of Bessimer; City, North Carolina | January 19, 2001 | March 31, 2003.
CP00-131-000 | South Carolina Pipeline Corporation | March 27, 2001 | March 31, 2003.
CP00-132-000 | Public Service Company of North Carolina, Gastonia, North Carolina | March 28, 2001 | March 31, 2003.

Any question regarding this application may be directed to Mr. David A. Glenn, Senior Counsel, Transcontinental Gas Pipe Line Corporation, 2800 Post Oak Blvd., Houston Texas, 77056 at (713) 215-2341.

Any person desiring to be heard or to protest this filing should file a motion to intervene or protest with the Federal Energy Regulatory Commission, 888 First Street, NE., Washington, DC 20426, on or before May 7, 2002, in accordance with Sections 385.214 and 385.211 of the Commission's Rules and Regulations. Protests will be considered by the Commission in determining the appropriate action to be taken, but will not serve to make Protestants parties to the proceeding. Any person wishing to become a party must file a motion to intervene. Copies of this filing are on file with the Commission and are available for public inspection in the Public Reference Room. Comments, protests, and interventions may be filed electronically via the Internet in lieu of paper. See 18 CFR 385.2001(a)(1)(iii) and the instructions on the Commission's web site under the “e-filing” link.

Take notice that, pursuant to the authority contained in and subject to the jurisdiction conferred upon the Commission by Sections 7 and 15 of the Natural Gas Act and the Commission's Rules of Practice and Procedure, a hearing will be held without further notice before the Commission on this application if no protest or motion to intervene is filed within the time required herein. At that time, the Commission, on its own review of the matter, will determine whether granting the abandonment is required by the public convenience and necessity. If a petition for leave to intervene is timely filed, or if the Commission on its own motion believes that a formal hearing is required, further notice of such hearing will be duly given.

Under the procedure herein provided for, unless otherwise advised, it will be unnecessary for Applicant to appear or be represented at the hearing.

Linwood A. Watson, Jr.,
Deputy Secretary.

[FR Doc. 02-9766 Filed 4-19-02; 8:45 am]

BILLING CODE 6717-01-P